NATIONAL COUNCIL ON DISABILITY

Sunshine Act Meetings

TIME AND DATE: The Members of the National Council on Disability (NCD) will hold a quarterly business meeting on Thursday, February 8, 2024, 1 p.m.-5:30 p.m., Eastern Standard Time (EST).

PLACE: This meeting will occur via Zoom videoconference. Registration is not required. Interested parties are encouraged to join the meeting in an attendee status by Zoom Desktop Client, Mobile App, or Telephone to dial-in. Updated information is available on NCD's event page at https://www.ncd.gov/meeting/2024-02-08-feb-8-2024-council-meeting/. To join the Zoom webinar, please use the following URL: https://us06web.zoom.us/j/87206638472?pwd=S3YzSEt6U0pZK2RwY2oyOFVDblhsUT09 or enter Webinar ID: 872 0663 8472 in the Zoom app. The Passcode is: 378669.

To join the Council Meeting by telephone, dial one of the preferred numbers listed. The following numbers are (for higher quality, dial a number based on your current location): (309) 205 3325; (312) 626 6799; (646) 876 9923; (646) 931 3860; (301) 715 8592; (305) 224 1968; (669) 444 9171; (669) 900 6833; (689) 278 1000; (719) 359 4580; (253) 205 0468; (253) 215 8782 or (346) 248 7799. You will be prompted to enter the meeting ID 872 0663 8472 and passcode 378669. International numbers are also available: https://us06web.zoom.us/u/kWvhpZ0c6.

In the event of audio disruption or failure, attendees can follow the meeting by accessing the Communication Access Realtime Translation (CART) link provided. CART is text-only translation that occurs real time and is not an exact transcript.

MATTERS TO BE CONSIDERED: Following welcome remarks and introductions, the Council will remember Chairman Andrés Gallegos, who passed away in December; the Executive Committee will provide their report; followed by the Acting Chair's report; Council Member community report-outs; a presentation on proposed changes to the disability questions in the Census Bureau's American Community Survey; a break; followed by a panel on ground transportation for wheelchair users; a public comment session regarding ground transportation for wheelchair users; policy project updates, including a summary and vote on NCD's Germline Editing report; Council Member training on time records; and convening a short closed session, before adjourning. The end of the meeting will be closed to the public and will be conducted to discuss internal personnel rules and practices, pursuant to paragraph (c)(2) of the Sunshine Act, and in accordance with a determination made by the NCD Acting Chair.

Agenda: The times provided below are approximations for when each agenda item is anticipated to be discussed (all times Eastern Standard Time):

Thursday, February 8, 2024

1:00-1:05 p.m.—Welcome and Call to Order

1:05-1:20 p.m.—Remembering Chairman Andrés Gallegos

1:20-1:35 p.m.—Executive Committee Report

1:35-1:45 p.m.—Acting Chair Report

1:45-2:15 p.m.—Council Member Community Report Outs

2:15-2:45 p.m.—Proposed Changes to the Disability Questions in the American Community Survey

2:45-3:00 p.m.—BREAK

3:00-4:00 p.m.—Ground Transportation for Wheelchair Users Panel

4:00-4:30 p.m.—Ground Transportation Experiences Public Comment

4:30-5:00 p.m.—Policy Update

5:00-5:10 p.m.—Council Member Time Records

(End of the public meeting announced; formal adjournment to occur in closed session)

5:10-5:30 p.m.—CLOSED SESSION

5:30 p.m.—Adjournment from the closed session

Public Comment: Your participation during the public comment period provides an opportunity for us to hear from you—individuals, businesses, providers, educators, parents and advocates. Your comments are important in bringing to the Council's attention and issues and priorities of the disability community.

For the February 8 Council meeting, NCD will have a public comment session to receive input on experiences with ground transportation. Additional information on specifics of the topic and guidelines are available on NCD's public comment page at https://www.ncd.gov/public-comment/.

Because of the virtual format, the Council will receive public comment by email or by video or audio over Zoom. To provide public comment during an NCD Council Meeting, NCD now requires advanced registration by sending send an email to PublicComment@ncd.gov with the subject line “Public Comment” and your name, organization, state, and topic of comment included in the body of your email. Deadline for registration is February 7, 8:00 p.m. EDT.

While public comment can be submitted on any topic over email, comments during the meeting should be specific to ground transportation experiences, as the input is needed for an upcoming report.

If any time remains following the conclusion of the comments of those registered, NCD may call upon those who desire to make comments but did not register.

CONTACT PERSON FOR MORE INFORMATION: Nicholas Sabula, Public Affairs Specialist, NCD, 1331 F Street NW, Suite 850, Washington, DC 20004; 202-272-2004 (V), or nsabula@ncd.gov.

Accommodations: An ASL interpreter will be on-camera during the entire meeting, and CART has been arranged for this meeting and will be embedded into the Zoom platform as well as available via streamtext link. The web link to access CART (in English) is: https://www.streamtext.net/player?event=NCD.

If you require additional accommodations, please notify Stacey Brown by sending an email to sbrown@ncd.gov as soon as possible, no later than 24 hours before the meeting.

Due to last-minute confirmations or cancellations, NCD may substitute items without advance public notice.

Dated: January 23, 2024.
Anne C. Sommers McIntosh,
Executive Director.

[FR Doc. 2024-01725 Filed 1-24-24; 4:15 pm]

BILLING CODE 8421-02-P